DEPARTMENT OF ENERGY

Federal Energy Regulatory Commission

[Docket No. RP00-83-004]

Texas Gas Transmission Corporation; Notice of Proposed Changes in FERC Gas Tariff

June 15, 2000.

Take notice that on June 12, 2000, Texas Gas Transmission Corporation (Texas Gas) tendered for filing as part of its FERC Gas Tariff, First Revised Volume No. 1, the following tariff sheets to become effective June 14, 2000:

Appendix A

Substitute Sixth Revised Sheet No. 1

Substitute Original Sheet No. 10A.01

Substitute Original Sheet No. 10A.02

Substitute Original Sheet No. 10A.03

Substitute First Revised Sheet No. 79

Substitute Original Sheet No. 80

Substitute Original Sheet No. 80A

Substitute Original Sheet No. 80B

Substitute Original Sheet No. 80C

Substitute Original Sheet No. 80G

Substitute Original Sheet No. 80H

First Revised Sheet No. 192

Substitute Original Sheet No. 279

Substitute Original Sheet No. 279C

Substitute Original Sheet No. 279D

Appendix B

Substitute Seventh Revised Sheet No. 2

Substitute Eighth Revised Sheet No. 14

Substitute Original Sheet Nos. 80D-80F

Substitute First Revised Sheet No. 126

Substitute First Revised Sheet No. 127

Substitute Third Revised Sheet No. 149

Substitute First Revised Sheet No. 165

Substitute Second Revised Sheet No. 166

Substitute First Revised Sheet No. 166A

Substitute First Revised Sheet No. 176

Substitute Second Revised Sheet No. 177

Substitute Fourth Revised Sheet No. 186

Substitute Second Revised Sheet No. 218

Substitute First Revised Sheet No. 219

Substitute Second Revised Sheet No. 233

Substitute First Revised Sheet No. 278

Substitute Original Sheet Nos. 279A-279B

Substitute Original Sheet Nos. 279E-279J

On November 29, 1999, Texas Gas filed proposed tariff sheets to implement a new summer no-notice (SNS) service. On January 12, 2000, the Commission issued an order accepting and suspending the tariff sheets, subject to refund, and establishing a technical conference. Staff convened a technical conference on March 2, 2000. Comments and reply comments were filed following the technical conference. On May 31, 2000, the Commission issued an “Order Following Technical Conference” which, based on the comments filed, accepted the tariff sheets to become effective June 14, 2000, subject to the conditions set forth in the Order, including the requirement for Texas Gas to file revised tariff sheets within ten (10) days expressing its rates for SNS service in a two-part, SFV rate structure, rather than a one-part rate. Texas Gas states that the purpose of the instant filing is to file revised tariff sheets in compliance with the Commission's May 31, 2000, Order, and to move the suspended tariff sheets into effect on June 14, 2000, consistent with that Order.

Texas Gas states that copies of the revised tariff sheets are being mailed to Texas Gas's jurisdictional customers, interested state commissions, and the parties appearing on the official service list.

Any person desiring to be heard or to protest such filing should file a motion to intervene or protest with the Federal Energy Regulatory Commission, 888 First Street, NE., Washington, DC 20426, in accordance with Sections 385.214 or 385.211 of the Commission's Rules and Regulations. All such motions or protests must be filed in accordance with section 154.210 of the Commission's Regulations. Protests will be considered by the Commission to determine the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-15571 Filed 6-20-00; 8:45 am]

BILLING CODE 6717-01-M